DEPARTMENT OF DEFENSE

Department of the Air Force

Notice of Intent To Prepare an Environmental Impact Statement for the KC-46A Main Operating Base #4 Beddown

AGENCY: United States Air Force, Department of Defense.

ACTION: Notice of intent.

SUMMARY: The United States Air Force (USAF) is issuing this notice to advise the public of the intent to prepare an Environmental Impact Statement (EIS) for the KC-46A Main Operating Base #4 (MOB 4) Beddown. The EIS will assess the potential environmental consequences of various alternatives of the beddown of KC-46A tanker aircraft, associated infrastructure and personnel in support of the MOB 4 mission at an existing active duty, continental United States Air Force Base (AFB).

DATES: USAF invites the public, stakeholders, and other interested parties to attend open house public scoping meetings from 5 p.m. to 8 p.m. in the following locations on the following dates:

1. Travis AFB: January 10, 2017; Northern Solano Association of Realtors, Fairfield, California.

2. Fairchild AFB: January 12, 2017; The Lincoln Center, Lincoln Ballroom, Spokane, Washington.

3. Joint Base McGuire-Dix Lakehurst (JBMDL): January 17, 2017; New Hanover Township Senior Center, Cookstown, New Jersey.

4. Dover AFB: January 19, 2017; AMC Museum, Dover, Delaware.

5. Grand Forks AFB: January 24, 2017; Alerus Center, Hawk Meeting Room, Grand Forks, North Dakota.

ADDRESSES: The project Web site (www.KC-46A-MOB4.com) provides more information on the EIS and can be used to submit scoping comments. Scoping comments may also be submitted to Mr. Bill Bushman, AFCEC/CZN; Attn: KC-46A MOB 4 EIS; 2261 Hughes Ave, Suite 155; JBSA Lackland, TX 78236-9853.

Comments will be accepted at any time during the environmental impact analysis process. However, to ensure the USAF has sufficient time to consider public input in the preparation of the Draft EIS, scoping comments should be submitted to the Web site or the address listed above by February 3, 2017.

SUPPLEMENTARY INFORMATION: The MOB 4 mission includes the beddown of 24 or 36 KC-46A aircraft in two or three squadrons, respectively. The KC-46A aircraft will recapitalize the aging tanker fleet and would continue supporting the mission of providing worldwide refueling, cargo, and aeromedical evacuation support. The proposed basing alternatives for MOB 4 mission include Dover AFB, Delaware; Fairchild AFB, Washington; Grand Forks AFB, North Dakota; JBMDL, New Jersey; and Travis AFB, California.

Scoping and Agency Coordination: To effectively define the full range of issues to be evaluated in the EIS, the USAF will determine the scope of the analysis by soliciting comments from interested local, state and federal elected officials and agencies, as well as interested members of the public and others. Implementation of the KC-46A MOB 4 mission at Dover AFB, Grand Forks AFB, JBMDL and Travis AFB would have the potential to be located in a floodplain and/or wetland. Consistent with the requirements and objectives of Executive Order (EO) 11990, “Protection of Wetlands,” and EO 11988, “Floodplain Management,” as amended by EO 13690, “Establishing a Federal Flood Risk Management Standard and a Process for Further Soliciting and Considering Stakeholder Input,” state and federal regulatory agencies with special expertise in wetlands and floodplains will be contacted to request comment. Consistent with EO 11988, EO 13690, and EO 11990, this Notice of Intent initiates early public review of the alternatives that have the potential to be located in a floodplain and/or wetland. Scoping meetings will be held in the local communities near the alternative basing locations. The scheduled dates, times, locations, and addresses for the scoping meetings will also be published in local media a minimum of 15 days prior to the scoping meetings.

Henry Williams,
Acting Air Force Federal Register Liaison Officer.

[FR Doc. 2016-30828 Filed 12-21-16; 8:45 am]

BILLING CODE 5001-10-P